FEDERAL COMMUNICATIONS COMMISSION

47 CFR Part 25

[IB Docket No. 12-267; FCC 13-111]

Comprehensive Review of Licensing and Operating Rules for Satellite Services; Correction

AGENCY: Federal Communications Commission.

ACTION: Correcting amendment.

SUMMARY: This document corrects a final regulation published in the Federal Register, 79 FR 8325, February 12, 2014. The regulation concerns a transmitter identification requirement on digital video transmissions by temporary-fixed earth stations.

DATES: Effective May 27, 2016.

FOR FURTHER INFORMATION CONTACT: Clay DeCell, 202-418-0803.

SUPPLEMENTARY INFORMATION: A final regulation published on February 12, 2014, provides that, as of a certain future date, temporary-fixed earth stations transmitting digital video information must include a signal identifying the source of the transmission. A two-year grace period was adopted for the new regulation, beginning on its effective date. The regulation became effective on September 3, 2014. 79 FR 52224. To accurately reflect this two-year grace period, the date specified in 47 CFR 25.281(b) is corrected from June 1, 2016, to September 3, 2016.

List of Subjects in 47 CFR Part 25

Earth stations.

Accordingly, 47 CFR part 25 is corrected by making the following correcting amendment:

PART 25—SATELLITE COMMUNICATIONS

1. The authority citation for part 25 continues to read as follows:

Authority: Interprets or applies 47 U.S.C. 154, 301, 302, 303, 307, 309, 310, 319, 332, 605, and 721, unless otherwise noted.

§ 25.281 [Corrected]

2. In the introductory text of § 25.281(b), remove “June 1” and add, in its place, “September 3”.

Dated: May 20, 2016.
Federal Communications Commission.
Marlene H. Dortch,
Secretary.

[FR Doc. 2016-12482 Filed 5-26-16; 8:45 am]

BILLING CODE 6712-01-P